SECURITIES AND EXCHANGE COMMISSION

Issuer Delisting; Notice of Application To Withdraw From Listing and Registration on the American Stock Exchange LLC (Magnum Hunter Resources, Inc.) File No. 1-12508

June 25, 2002.

Magnum Hunter Resources, Inc., an Nevada corporation (“Issuer”), has filed an application with the Securities and Exchange Commission (“Commission”), pursuant to section 12(d) of the Securities Exchange Act of 1934 (“Act”) ¹ and Rule 12d2-2(d) thereunder,² to withdraw its Common Stock, $.002 par value (“Security”), from listing and registration on the American Stock Exchange LLC (“Amex” or “Exchange”).

¹ 15 U.S.C. 78l(d).

² 17 CFR 240.12d2-2(d).

The Issuer stated in its application that it has met the requirements of Amex Rule 18 by complying with all applicable laws in effect in the State of Nevada, in which it is incorporated, and with the Amex's rules governing an issuer's voluntary withdrawal of a security from listing and registration.

On June 7, 2002, the Board of Trustees (“Board”) of the Issuer approved a resolution to withdraw the Issuer's Security from listing on the Amex. In making the decision to withdraw its Security from the Amex, the Board considered the direct and indirect costs and the division of the market resulting from dual listing on AMEX and New York Stock Exchange, Inc. (“NYSE”). The Issuer stated in its application that trading in the Security began on the NYSE on June 25, 2002.

The Issuer's application relates solely to the Security's withdrawal from listing on the Amex and shall have no affect upon the Security's continued listing on the NYSE and registration under Section 12(b) of the Act.³

³ 15 U.S.C. 78l(b).

Any interested person may, on or before July 15, 2002, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 02-16457 Filed 6-28-02; 8:45 am]

BILLING CODE 8010-01-P